FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 201227-005.

Title: Pacific Ports Operational Improvements Agreement.

Parties: Ocean Carrier Equipment Management Association, Inc., FMC Agreement No. 011284; West Coast MTO Agreement, FMC Agreement No. 201143; Maersk Line A/S; CMA CGM S.A., APL Co. Pte Ltd., and American President Lines, Ltd. (acting as a single party); COSCO SHIPPING Lines Co., Ltd.; Evergreen Line Joint Service Agreement, FMC Agreement No. 011982; Hamburg-Sud and Alianca Navegacao e Logistica Ltda. (acting as a single party); Hapag-Lloyd AG, Hapag-Lloyd USA, Companhia Libra de Navegacao, and Compania Libra de Navegacion Uruguay S.A. (acting as a single party); Mitsui O.S.K. Lines, Ltd.; Nippon Yusen Kaisha Line; Kawasaki Kisen Kaisha, Ltd.; Hyundai Merchant Marine Co., Ltd.; Zim Integrated Shipping Services; MSC Mediterranean Shipping Company SA; Matson Navigation Company, Inc.; APM Terminals Pacific, Ltd.; Eagle Marine Services, Ltd.; International Transportation Service, Inc.; LBCT LLC; Everport Terminal Services, Inc.; Total Terminals International LLC; West Basin Container Terminal LLC; Pacific Maritime Services, L.L.C.; SSA Terminal (Long Beach), LLC; Trapac Inc.; Yusen Terminals, Inc.; SSA Terminals, LLC; SSA Terminals (Oakland), LLC; SSA Terminals (Seattle), LLC; Sea Star Stevedoring Company, Inc.; Washington United Terminals, Inc.

Filing Party: Donald J. Kassilke, Esq.; Cozen O'Connor; 1200 19th Street NW; Washington, DC 20036.

Synopsis: The Amendment makes several updates to the membership of the Agreement.

By Order of the Federal Maritime Commission.
Dated: October 6, 2017.
Rachel E. Dickon,
Assistant Secretary.

[FR Doc. 2017-22061 Filed 10-11-17; 8:45 am]

BILLING CODE 6731-AA-P